ENVIRONMENTAL PROTECTION AGENCY

40 CFR Part 52

[SIP No. UT-001-0043b, UT-001-0044b; FRL-7376-6]

Approval and Promulgation of Air Quality Implementation Plans; Utah; New Source Performance Standards

AGENCY: Environmental Protection Agency (EPA).

ACTION: Proposed rule.

SUMMARY: On January 8, 1999 and December 10, 1999, the Governor of Utah submitted revisions to the New Source Performance Standards (NSPS) rules in Utah's Air Conservation Regulations. We are proposing to approve updates to the NSPS “Delegation Status of New Source Performance Standards” table to indicate the State has been delegated the authority to implement and enforce NSPS and to add entries for newly delegated NSPS. Also, given that the State has been delegated the authority for implementation and enforcement of the NSPS, we are proposing to remove the NSPS rules from the Utah SIP. These actions are being taken under sections 110 and 111 of the Clean Air Act.

In the “Rules and Regulations” section of this Federal Register, EPA is approving the State's SIP revision as a direct final rule without prior proposal because the Agency views this as a noncontroversial SIP revision and anticipates no adverse comments. A detailed rationale for the approval is set forth in the preamble to the direct final rule. If EPA receives no adverse comments, EPA will not take further action on this proposed rule. If EPA receives adverse comments, EPA will withdraw the direct final rule and it will not take effect. EPA will address all public comments in a subsequent final rule based on this proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

DATES: Comments must be received in writing on or before October 21, 2002.

ADDRESSES: Written comments may be mailed to Richard R. Long, Director, Air and Radiation Program, Mailcode 8P-AR, Environmental Protection Agency (EPA), Region 8, 999 18th Street, Suite 300, Denver, Colorado, 80202. Copies of the documents relevant to this action are available for public inspection during normal business hours at the Air and Radiation Program, Environmental Protection Agency, Region 8, 999 18th Street, Suite 300, Denver, Colorado, 80202. Copies of the State documents relevant to this action are available for public inspection at the Utah Department of Environmental Quality, Division of Air Quality, 150 North 1950 West, Salt Lake City, Utah 84114.

FOR FURTHER INFORMATION CONTACT: Laurel Dygowski, EPA, Region 8, (303) 312-6144.

SUPPLEMENTARY INFORMATION: See the information provided in the Direct Final action of the same title which is located in the Rules and Regulations section of this Federal Register.

Authority: 42 U.S.C. 7401 et seq.

Dated: August 27, 2002.
Jack W. McGraw,
Acting Regional Administrator, Region 8.

[FR Doc. 02-23379 Filed 9-18-02; 8:45 am]

BILLING CODE 6560-50-P